DEPARTMENT OF ENERGY

Federal Energy Regulatory Commission

Combined Notice of Filings #1

Take notice that the Commission received the following exempt wholesale generator filings:

Docket Numbers: EG21-257-000.

Applicants: Drew Solar, LLC.

Description: Notice of Self-Certification of Exempt Wholesale Generator Status of Drew Solar, LLC.

Filed Date: 9/21/21.

Accession Number: 20210921-5037.

Comment Date: 5 p.m. ET 10/12/21.

Take notice that the Commission received the following electric rate filings:

Docket Numbers: ER10-1819-028; ER10-1820-031.

Applicants: Northern States Power Company, a Wisconsin corporation, Northern States Power Company, a Minnesota corporation.

Description: Supplement to December 18, 2020 Triennial Market Power Analysis for Central Region of Northern States Power Company, a Minnesota corporation, et al.

Filed Date: 9/20/21.

Accession Number: 20210920-5183.

Comment Date: 5 p.m. ET 10/12/21.

Docket Numbers: ER17-1821-004.

Applicants: Panda Stonewall LLC.

Description: Refund Report: First Reactive Service Refund Report—Docket No. ER17-1821 to be effective N/A.

Filed Date: 9/21/21.

Accession Number: 20210921-5091.

Comment Date: 5 p.m. ET 10/12/21.

Docket Numbers: ER21-2798-001.

Applicants: Florida Power & Light Company.

Description: Tariff Amendment: Amendment to Florida Power & Light Company's Filing to Re-file MBR Tariff to be effective 9/1/2021.

Filed Date: 9/21/21.

Accession Number: 20210921-5056.

Comment Date: 5 p.m. ET 10/12/21.

Docket Numbers: ER21-2911-000.

Applicants: Drew Solar, LLC.

Description: Baseline eTariff Filing: Application for Market-Based Rate Authority to be effective 11/1/2021.

Filed Date: 9/21/21.

Accession Number: 20210921-5016.

Comment Date: 5 p.m. ET 10/12/21.

Docket Numbers: ER21-2912-000.

Applicants: Drew Solar-CA, LLC.

Description: Baseline eTariff Filing: Application for Market-Based Rate Authority to be effective 11/1/2021.

Filed Date: 9/21/21.

Accession Number: 20210921-5017.

Comment Date: 5 p.m. ET 10/12/21.

Docket Numbers: ER21-2913-000.

Applicants: California Independent System Operator Corporation.

Description: § 205(d) Rate Filing: 2021-09-21 Transferred Frequency Response Agmt—Tucson to be effective 12/1/2021.

Filed Date: 9/21/21.

Accession Number: 20210921-5063.

Comment Date: 5 p.m. ET 10/12/21.

Docket Numbers: ER21-2914-000.

Applicants: Midcontinent Independent System Operator, Inc.

Description: § 205(d) Rate Filing: 2021-09-21_Short-Term Reserve True-up Filing to be effective 12/7/2021.

Filed Date: 9/21/21.

Accession Number: 20210921-5074.

Comment Date: 5 p.m. ET 10/12/21.

Docket Numbers: ER21-2915-000.

Applicants: Arizona Public Service Company.

Description: § 205(d) Rate Filing: Service Agreement No. 393 to be effective 9/2/2021.

Filed Date: 9/21/21.

Accession Number: 20210921-5083.

Comment Date: 5 p.m. ET 10/12/21.

Docket Numbers: ER21-2916-000.

Applicants: Milford Wind Corridor Phase I, LLC.

Description: § 205(d) Rate Filing: Notice of Change in Category Seller Status in the SW Region to be effective 9/22/2021.

Filed Date: 9/21/21.

Accession Number: 20210921-5087.

Comment Date: 5 p.m. ET 10/12/21.

Docket Numbers: ER21-2917-000.

Applicants: Milford Wind Corridor Phase II, LLC.

Description: § 205(d) Rate Filing: Notice of Change in Category Seller Status in the SW Region to be effective 9/22/2021.

Filed Date: 9/21/21.

Accession Number: 20210921-5088.

Comment Date: 5 p.m. ET 10/12/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 21, 2021.
Debbie-Anne A. Reese,
Deputy Secretary.

[FR Doc. 2021-20897 Filed 9-24-21; 8:45 am]

BILLING CODE 6717-01-P